DEPARTMENT OF VETERANS AFFAIRS

[OMB Control No. 2900-0822]

Agency Information Collection Activity Under OMB Review: Camp Lejeune Family Member Program—Reimbursement of Certain Medical Expenses

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0822.”

FOR FURTHER INFORMATION CONTACT: Maribel Aponte, Office of Enterprise and Integration, Data Governance Analytics (008), 1717 H Street NW, Washington, DC 20006, (202) 266-4688 or email maribel.aponte@va.gov. Please refer to “OMB Control No. 2900-0822” in any correspondence.

SUPPLEMENTARY INFORMATION:

Authority: 44 U.S.C. 3501-3521.

Title: Camp Lejeune Family Member Program—Reimbursement of Certain Medical Expenses, VA Forms 10-10068, 10-10068a, 10-10068b, 10-10068c.

OMB Control Number: 2900-0822.

Type of Review: Reinstatement of a previously approved collection.

Abstract: Under 38 U.S.C. 1787, VA is required to furnish hospital care and medical services to the family members of certain veterans who were stationed at Camp Lejeune between 1953 and 1987 and have specified medical conditions. In order to furnish such care, VA must collect necessary information from the family members to ensure that they meet the requirements of the law. The specific hospital care and medical services that VA must provide are for a number of illnesses and conditions connected to exposure to contaminated drinking water while at Camp Lejeune. The forms in this collection will be used to determine eligibility and reimbursement for this medical care.

An agency may not conduct or sponsor, and a person is not required to respond to a collection of information unless it displays a currently valid OMB control number. The Federal Register Notice with a 60-day comment period soliciting comments on this collection of information was published at 87 FR 53 on March 18, 2022, pages 15492 and 15493.

Total Estimated Annual Burden: 5,838 hours.

Total Estimated Annual Number of Responses: 21,720.

VA Form 10-10068: Application Form

Affected Public: Individuals or households.

Estimated Annual Burden: 815 hours.

Estimated Average Burden per Respondent: 30 minutes.

Frequency of Response: Once annually.

Estimated Number of Respondents: 1,629.

VA Form 10-10068a: Claim Form

Affected Public: Individuals or households.

Estimated Annual Burden: 4,480 hours.

Estimated Average Burden per Respondent: 15 minutes.

Frequency of Response: 11 times per year.

Estimated Number of Respondents: 1,629.

VA Form 10-10068b: Treating Physician Form

Affected Public: Individuals or households.

Estimated Annual Burden: 407 hours.

Estimated Average Burden per Respondent: 15 minutes.

Frequency of Response: Once annually.

Estimated Number of Respondents: 1,629.

VA Form 10-10068c: Information Update Form

Affected Public: Individuals or households.

Estimated Annual Burden: 136 hours.

Estimated Average Burden per Respondent: 15 minutes.

Frequency of Response: Once annually.

Estimated Number of Respondents: 543.

By direction of the Secretary.
Maribel Aponte,
VA PRA Clearance Officer, Office of Enterprise and Integration, Data Governance Analytics, Department of Veterans Affairs.

[FR Doc. 2022-14540 Filed 7-7-22; 8:45 am]

BILLING CODE 8320-01-P